SMALL BUSINESS ADMINISTRATION

SBA Council on Underserved Communities Meeting

AGENCY: U.S. Small Business Administration (SBA).

ACTION: Notice; revision to meeting time.

SUMMARY: The SBA is issuing this notice to announce the time change for the fourth meeting of the Council on Underserved Communities, originally scheduled for October 19, 2022, 1 p.m. to 4 p.m. This meeting time has since changed to October 19, 2022, 2 p.m. to 5 p.m.

FOR FURTHER INFORMATION CONTACT: Tomas Kloosterman, SBA, Office of the Administrator, 409 Third Street SW, Washington, DC 20416, Tomas.Kloosterman@sba.gov, (202) 941-8082.

SUPPLEMENTARY INFORMATION: In the Federal Register on Tuesday, October 4, 2022, in the FR Document Number 2022-21439, on pages 60232-60233, change the October 19, 2022, meeting time from 1 p.m. to 4 p.m. to 2 p.m. to 5 p.m. The date of the meeting will not be changed.

Dated: October 4, 2022.
Andrienne Johnson,
SBA Committee Management Officer.

[FR Doc. 2022-21869 Filed 10-6-22; 8:45 am]

BILLING CODE P